DEPARTMENT OF AGRICULTURE

Forest Service

Georgetown Vegetation Management, Philipsburg Ranger District, Beaverhead Deerlodge National Forest, Granite and Deer Lodge Counties, MT

AGENCY: Forest Service, USDA.

ACTION: Revised notice; intent to prepare environmental impact statement.

SUMMARY: The Forest Service will prepare an environmental impact settlement (EIS) to document the analysis and disclose the environmental impacts of proposed actions to manage forest and rangelands to reduce fuel levels, improve forest health, and improve vegetative structure in the Flint Creek, North Flint Creek, and upper Warm Springs drainages. The proposed project includes the Georgetown and Echo Lake recreation areas which are located approximately 10 miles south of Philipsburg, Montana. A portion of the project proposes to treat forested lands comprised of vegetation condition classes 2 and 3 within and adjacent to areas defined as wildland urban interface and intermix communities. Areas with these conditions have been identified as priorities for fuel treatment under the National Fire Plan and Cohesive Strategy because of the potential for severe and damaging wildfire.

The Forest Service proposes fuel reduction and forest health treatments by thinning and shelterwood harvest on 1,000 to 1,200 acres. As estimated 1.0 to 1.3 million board feet (2,000 to 2,600 hundred cubic feet, CCF) of sawtimber and approximately 1.0 to 1.5 million board feet equivalent (2,000 to 3,000 CCF) of posts and poles would be harvested. Also, 1,100 to 1,200 acres would be treated with prescribed fire and mechanical methods to control conifer encroachment and reduce grassland fuels.

This project originally appeared in the Federal Register on August 3, 1998, page 41223, as the Double Sec Timber Sale and Vegetative Management, Beaverhead-Deerlodge National Forest, Granite and Deer Lodge Counties, MT. A draft environmental impact statement was completed and a notice of availability was published in the Federal Register on October 8, 1999, page 54882, as EIS No. 990357, Draft EIS, AFS, MT, Double Sec Timber Sale and Vegetation Management Project.

DATES: Initial comments concerning the scope of the analysis should be received in writing no later than 30 days after the publication of this NOI in the Federal Register.

ADDRESSES: The responsible official is Forest Supervisor Thomas K. Reilly, Beaverhead-Deerlodge National Forest, Dillon, MT. Please send written comments to Bob Gilman, District Ranger, Philipsburg Ranger District, 88 10A Business Loop, Philipsburg, MT 59858. Comments may be electronically submitted to rl_b-d_comments@fs.fed.us.

FOR FURTHER INFORMATION CONTACT: Mark Giacoletto, Fire Management Officer, Philipsburg Ranger District, 88 10A Business Loop, Philipsburg, MT, 59858, or phone: (406) 859-3211.

SUPPLEMENTARY INFORMATION: The project area is located in T4 &5N, R13 &14W. The scope of this proposal is to initiate vegetative practices throughout the Georgetown Lake area that would help maintain the recreational setting over time. Treatments would reduce stand densities and fuel levels, especially in areas near private property, developments, and homes.

The original environmental analysis for this area was initiated in the spring of 1997. The original proposed action would have harvested approximately 11.5 million board feet, from 1,250 acres, and constructed 4.5 miles of system roads and 4.5 miles of temporary roads. Alternatives to the proposed action reduced harvest levels, reduced or eliminated road construction, and changed travel management by closing up to 14.5 miles of roads and motorized trails.

The revised project would implement the goals and objectives outlined in the National Fire Plan, Cohesive Strategy and Goal 2 of the 10 Year Comprehensive Strategy.

Public participation will be re-initiated due to the substantial changes in project design. Part of the goal of public involvement is to identify issues to the revised project. During initial scoping, over 900 letters were sent to interested people, adjacent landowners, organizations, business, as well as Federal, State, County, and Tribal organizations. Thirty-two individual responses were received. A field trip was held during the summer of 1997; two people attended. A public meeting was held in Anaconda, MT on December 15, 1999. Articles describing the project were published in local newspapers.

The analysis will consider all reasonably foreseeable activities. The interdisciplinary team has not yet developed alternatives to the proposed action. Alternatives will be developed based on the key issues identified through scoping.

People may visit with Forest Service officials at any time during the analysis and prior to the decision. Two periods are specifically designated for comments on the analysis: (1) During the scoping process and (2) during the draft EIS comment period.

During the scoping process, the Forest Service is seeking additional information and comments from Federal, State, and local agencies and other individuals or organizations who may be interested in or affected by the proposed action. The United States Fish and Wildlife Service will be consulted concerning effects to threatened and endangered species. The agency invites written comments and suggestions on this action, particularly in terms of identification of issues and alternative development.

The draft EIS should be available for review in July 2003. The final EIS is scheduled for completion in August 2003.

The Environmental Protection Agency will publish the notice of availability of the Draft Environmental Impact Statement in the Federal Register. The Forest Service will also publish a legal notice of its availability in the Montana Standard Newspaper, Butte, Montana. A 45-day comment period on the draft environmental impact statement will begin the day following the legal notice.

The Forest Service believes it is important to give reviewers notice at this early stage of several court rulings related to public participation in the environmental review process. First, reviewers of draft environmental impact statements must structure their participation in the environmental review of the proposal so it is meaningful and alerts an agency to the reviewer's position and contentions. Vermont Yankee Nuclear Power Corp. v. NRDC, 435 U.S. 519, 553 (1978). Also, environmental objections that could be raised at the draft environmental impact statement stage but are not raised until after completion of the final environmental impact statement may be waived or dismissed by the courts. City of Angoon v. Hodel, 803 F.2d 1016, 1022 (9th Cir. 1986) and Wisconsin Heritage, Inc. v. Harris, 490 F. Supp. 1334, 1338 (E.D. Wis. 1980). Because of these court rulings, it is very important those interested in this proposed action participate by the close of the 45 day comment period so substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The responsible official will make the decision on this proposal after considering comments and responses, environmental consequences discussed in the final EIS, applicable laws, regulations, and policies. The decision and reasons for the decision will be documented in a Record of Decision.

Dated: December 2, 2002.
Thomas K. Reilly,
Forest Supervisor, Beaverhead-Deerlodge National Forest.

[FR Doc. 02-30979 Filed 12-6-02; 8:45 am]

BILLING CODE 3410-11-M